NATIONAL SCIENCE FOUNDATION

Committee Management; Renewals

The NSF management officials having responsibility for the Proposal Review Panel for Emerging Frontiers in Biological Sciences, #44011 have determined that renewing this committee for another two years is necessary and in the public interest in connection with the performance of duties imposed upon the Director, National Science Foundation (NSF), by 42 USC 1861 et seq. This determination follows consultation with the Committee Management Secretariat, General Services Administration.

Effective date for renewal is August 5, 2011. For more information, please contact Susanne Bolton, NSF, at (703) 292-7488.

Dated: July 22, 2011.
Susanne Bolton,
Committee Management Officer.

[FR Doc. 2011-18934 Filed 7-26-11; 8:45 am]

BILLING CODE 7555-01-P